ENVIRONMENTAL PROTECTION AGENCY

[FRL-9710-8]

Notice of Proposed Prospective Purchaser Agreement Pursuant to the Comprehensive Environmental Response, Compensation and Liability Act of 1980, as Amended (“CERCLA”), and the Solid Waste Disposal Act

AGENCY: Environmental Protection Agency (EPA).

ACTION: Notice; request for public comment.

SUMMARY: In accordance with the Comprehensive Environmental Response, Compensation, and Liability Act of 1980, as amended (“CERCLA”), and the Solid Waste Disposal Act, commonly referred to as the Resource Conservation and Recovery Act of 1976, as amended by the Hazardous and Solid Waste Amendments of 1984 (“RCRA”), notice is hereby given that a proposed Prospective Purchaser Agreement (“PPA”) associated with a 1400-acre parcel of property located in Philadelphia, Pennsylvania (“Property”) was executed by the Environmental Protection Agency and the Department of Justice. Once finalized, the PPA will resolve potential claims under Sections 106 and 107(a) of CERCLA, and Sections 3005 and 3008(a) of RCRA, against Philadelphia Energy Solutions LLC (“PES LLC”) and Philadelphia Energy Solutions Refining & Marketing (“PES R&M LLC”). The proposed PPA is now subject to public comment after which the United States may modify or withdraw its consent if comments received disclose facts or considerations which indicate that the PPA is inappropriate, improper, or inadequate.

Sunoco, Inc. (R&M), a subsidiary of Sunoco, Inc., currently operates the Property as a crude oil refinery to distribute, store and process petroleum. PES R&M LLC has proposed to purchase the Property and continue crude oil refining and related operations at the Property.

The Property consists of two formerly separate refining operations known as “Point Breeze” and “Girard Point.” EPA issued a RCRA Corrective Action Permit under RCRA Section 3004(u), 42 U.S.C. Section 6924(u), for the Point Breeze operation in 1988 and for the Girard Point operation in 1989. Both permits require Sunoco, Inc. (R&M) to, among other things, investigate solid waste management units (“SWMUs”) and evaluate remedy options. Both permits have been extended by EPA until final remedy selection. After PES R&M LLC purchases the Property, Sunoco, Inc. (R&M) will be required to complete its RCRA corrective action obligations at the Property.

DATES: Comments must be submitted on or before thirty (30) days after the date of publication of this notice.

ADDRESSES: The Proposed PPA and additional background information relating to the Proposed PPA are available for public inspection at the U.S. Environmental Protection Agency, Region III, 1650 Arch Street, Philadelphia, PA 19103. A copy of the Proposed PPA may be obtained from Hon Lee, U.S. Environmental Protection Agency (3LC23), 1650 Arch Street, Philadelphia, PA 19103 or at lee.hon@epa.gov or at 215-814-3419. Comments should reference the “PES LLC PPA” and “CERC/RCRA-03-2012-0224DC,” and should be forwarded to Hon Lee at the above address.

Dated: July 23, 2012.
Abraham Ferdas,
Director, Land and Chemicals Division, U.S. Environmental Protection Agency, Region III.

[FR Doc. 2012-20870 Filed 8-23-12; 8:45 am]

BILLING CODE 6560-50-P